NUCLEAR REGULATORY COMMISSION

[Docket No. 40-7580]

Notice of Availability of Environmental Assessment and Finding of No Significant Impact for License Amendment for Fansteel, Inc.—Muskogee, Oklahoma License No. SMB-911

AGENCY: Nuclear Regulatory Commission.

ACTION: Notice of availability of Environmental Assessment and Finding of No Significant Impact.

FOR FURTHER INFORMATION, CONTACT: James C. Shepherd, Project Manager, Decommissioning Branch, Division of Waste Management, Office of Nuclear Material Safety and Safeguards, U.S. Nuclear Regulatory Commission, Mail Stop: T-7F27, Washington, DC 20555-0001. Telephone: (301) 415-6712; Fax number: (301) 415-5398; E-mail: jcs2@nrc.gov.

SUPPLEMENTARY INFORMATION:

I. Introduction

The U.S. Nuclear Regulatory Commission (NRC) is considering the issuance of a license amendment to Material License Number SMB-911, issued to Fansteel, Inc. (the licensee), to authorize decommissioning of its facility located in Muskogee, Oklahoma. NRC has prepared an Environmental Assessment (EA) in accordance with the requirements of 10 CFR part 51 and to determine the environmental impacts of approving the decommissioning plan (DP), subsequent release of the site for unrestricted use (as defined in 10 CFR 20.1402), and termination of the license.

II. EA Summary

The purpose of the proposed action is to authorize the decommissioning of Fansteel's Speciality Metals facility, in Muskogee, Oklahoma, for unrestricted use to allow for license termination. The Fansteel processing facility produced tantalum and columbium metals for approximately 33 years until operations ceased in 1990. The raw materials used for tantalum and columbium production contain uranium and thorium as naturally occurring trace constituents. The concentration of radioactive species present in the process raw materials is sufficient to cause the ores and slags to be classified by the NRC as source material. Consequently, Fansteel operated under NRC License No. SMB-911 for the possession of source material. Fansteel was authorized by the NRC on March 25, 1997, to complete the processing of ore residues, calcium fluoride residues, and wastewater treatment residues containing uranium and thorium, in various site impoundments.

On July 24, 2003, Fansteel requested that NRC approve the DP for the facility, which when complete, would permit the site to be released for unrestricted use. Final approval for release of the site for unrestricted use and license termination would be contingent upon NRC approval of the licensee's final status survey report and making the findings required by the Commission's regulations following completion of the licensee's decommissioning activities. Fansteel's request for the proposed action was previously noticed in the Federal Register on August 11, 2003 (68 FR 47621), along with a notice of an opportunity to request a hearing and an opportunity to provide comments on the action and its environmental impacts.

III. Finding of No Significant Impact

The staff has prepared the EA in support of the proposed license amendment to decommission the site, terminate the license, and release the site for unrestricted use. On the basis of the EA, NRC has concluded that there are no significant environmental impacts from the proposed action, and the license amendment does not warrant preparation of an Environmental Impact Statement. It has been determined that a Finding of No Significant Impact (FONSI) is appropriate. The amendment will be issued following the publication of this Notice.

IV. Further Information

The EA and the documents related to this proposed action, including the application for the license amendment and supporting documentation, are available for inspection at NRC's Public Electronic Reading Room at http://www.nrc.gov/reading-rm.html [ADAMS Accession Nos.: ML030240051, ML030240062, ML030240109, ML030240134, and ML030240432 (Decommissioning Plan); ML032100530 (request for license amendment); ML032100558 (revised Decommissioning Plan Sections 15.3-15.5); and ML033040204 (Environmental Assessment, Finding of No Significant Impact). These documents may also be examined, and/or copied for a fee, at the NRC Public Document Room (PDR), located at One White Flint North, 11555 Rockville Pike, Rockville, MD 20852.

Dated at Rockville, Maryland, this 31st day of October, 2003.
For the Nuclear Regulatory Commission.
Janet R. Schlueter,
Acting Director, Division of Waste Management, Office of Nuclear Material Safety and Safeguards.

[FR Doc. 03-28066 Filed 11-6-03; 8:45 am]

BILLING CODE 7590-01-P